DEPARTMENT OF JUSTICE

Notice of Lodging of Consent Decree Pursuant to the Comprehensive Environmental Response, Compensation, and Liability Act

In accordance with Departmental policy, notice is hereby given that a proposed consent decree in United States v. Franks Petroleum Corp., et al., Civil Action No. 2:07-CV-0337, was lodged with the United States Court for the Western District of Louisiana on February 23, 2007.

In a complaint filed with the consent decree, the United States seeks reimbursement for costs incurred in connection with the Castex oilfield waste disposal facility located near Jennings, Louisiana (the “Site”), from 11 settling defendants pursuant to section 107 of the Comprehensive Environmental Response, Compensation, and Liability Act (“CERCLA”), 42 U.S.C. 9607. These 11 settling defendants agree to pay $2,000,000 to resolve federal claims relating to the Site.

The Department of Justice will receive, for a period of thirty (30) days from the date of this publication, comments relating to the proposed consent decree. Comments should be addressed to the Assistant Attorney General for the Environmental and Natural Resources Division, P.O. Box 7611, Department of Justice, Washington, DC 20044-7611, and should refer to United States v. Franks Petroleum Corp., et al., DOJ Ref. #90-5-1-1-08095.

The proposed consent decree may be examined at the office of the United States Attorney, Western District of Louisiana, 800 Lafayette Street, Suite 2200, Lafayette, LA 70501, and National Pollution Funds Centers, 4200 Wilson Blvd, Ste 1000, Arlington, VA 22203-1804. A copy of the consent decree may also be examined on the following Department of Justice Web site, http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the consent decree without signature pages and appendices, please enclose a check in the amount of $6.00 (25 cents per page reproduction cost) payable to the U.S. Treasury. Comments may be sent to: pubcomment-ees.enrd@usdoj.gov.

Thomas A. Mariani, Jr.,
Assistant Section Chief, Environmental Enforcement Section, Environment and Natural Resources Division.

[FR Doc. 07-1069 Filed 3-7-07; 8:45 am]

BILLING CODE 4410-15-M